DEPARTMENT OF HEALTH AND HUMAN SERVICES

Centers for Medicare and Medicaid Services

[Document Identifier: CMS-10059]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection; Title of Information Collection: Survey of Medicare Private Fee-for-Service (PFFS) Enrollees and Nonenrollees; Form No.: CMS-10059 (OMB# 0938-NEW); Use: Private fee-for-service was established in the Balanced Budget Act (BBA) of 1997 as an important variant of the Medicare+Choice program. As of September 2001, the only PFFS product was being offered by Sterling Insurance Company in some or all of 25 states with enrollees 24,300 including disenrollees. CMS wishes to survey approximately 6,322 enrollees and nonenrollees to evaluate the impact of this option on Medicare beneficiary on their awareness and knowledge of PFFS, decision making for/against PFFS, access to care, out-of-pocket costs, satisfaction with PFFS, etc.; Frequency: Other: One-time; Affected Public: Individuals or households; Number of Respondents: 6,322; Total Annual Responses: 6,322; Total Annual Hours: 1,581.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Dawn Willinghan, CMS-10059, Room N2-14-26, 7500 Security Boulevard, Baltimore, Maryland 21244-1850.

Dated: February 6, 2002.
John P. Burke, III,
Reports Clearance Officer, Security and Standards Group, Division of CMS Enterprise Standards.

[FR Doc. 02-3989 Filed 2-15-02; 8:45 am]

BILLING CODE 4120-03-P